NATIONAL SCIENCE FOUNDATION

Advisory Committee for Education and Human Resources; Notice of Meeting

In accordance with Federal Advisory Committee Act (Pub. L. 92-463, as amended), the National Science Foundation announces the following meeting:

Name: Advisory Committee for Education and Human Resources (#1119).

Date/Time: November 3, 2004: 8:30 a.m. to 5 p.m., November 4, 2004: 8:30 a.m. to 1:30 p.m.

Place: November 3, 2004: National Science Foundation Headquarters, 4201 Wilson Boulevard—Room 375, Arlington, VA 22230; November 4, 2004: Prince George's County Community College, 301 Largo Road—Kent Hall, Largo, Maryland 20774.

Type of Meeting: Open.

Contact Person: James Colby, National Science Foundation, 4201 Wilson Boulevard, Arlington, VA 22230, (703) 292-5331. If you are attending the meeting and need access to the NSF, please contact the individual listed above so your name may be added to the building access list.

Purpose of Meeting: To provide advice with respect to the Foundation's education and human resources programming.

Agenda: November 3, 2004

• Welcome by the Chair

• NSF Assistant Director's Report

• Update on the Experimental Program to Stimulate Competitive Research

• Discussion of Broadening Participation

• Visit with NSF Acting Director, Arden L. Bement

• Discussion and approval of Committee of Visitor Reports for five programs (Urban Systemic Initiative, Rural Systemic Initiative, Tribal Colleges and Universities, NATO PostDoc Fellowships, and Centers for Learning and Teaching)

• Joint Meeting with NSF Advisory Committee for Mathematical and Physical Sciences

November 4, 2004

• Site Visit to Prince George's County Community College

Dated: October 5, 2004.
Susanne Bolton,
Committee Management Officer.

[FR Doc. 04-22724 Filed 10-7-04; 8:45 am]

BILLING CODE 7555-01-M